DEPARTMENT OF EDUCATION

Striving Readers

AGENCY: Office of Elementary and Secondary Education, Department of Education.

ACTION: Notice of final priorities, requirements, definitions, and selection criteria.

Catalog of Federal Domestic Assistance (CFDA) Number: 84.371A.

SUMMARY: The Assistant Secretary for Elementary and Secondary Education announces priorities, requirements, definitions, and selection criteria under the Striving Readers program grant competition. The Assistant Secretary may use these priorities, requirements, definitions, and selection criteria for competitions in fiscal year (FY) 2009 and later years. We take this action to support the implementation and evaluation of intensive, supplemental literacy interventions for struggling adolescent readers.

DATES: Effective Date: These priorities, requirements, definitions, and selection criteria are effective July 13, 2009.

FOR FURTHER INFORMATION CONTACT: Marcia J. Kingman, U.S. Department of Education, 400 Maryland Avenue, SW., Room 3E106, Washington, DC 20202-6400. Telephone: (202) 401-0003 or by e-mail: Marcia.Kingman@ed.gov.

If you use a telecommunications device for the deaf (TDD), call the Federal Relay Service, toll free, at 1-800-877-8339.

SUPPLEMENTARY INFORMATION: Purpose of Program: The purposes of the Striving Readers program are to raise the literacy levels of adolescent students in schools that are eligible for assistance under Title I, Part A of the Elementary and Secondary Education Act of 1965, as amended (ESEA), and that enroll significant numbers of students reading below grade level and to build a strong, scientific research base for identifying and replicating strategies that improve adolescent literacy instruction. The program supports expanding the implementation of locally or regionally developed adolescent literacy initiatives, as well as the implementation of commercially published supplemental literacy interventions, for struggling readers.

Additional information about the Striving Readers program can be found at: http://www.ed.gov/programs/strivingreaders/index.html.

Program Authority: 20 U.S.C. 6492.

Applicable Program Regulations: The Education Department General Administrative Regulations (EDGAR) in 34 CFR parts 75, 77, 79, 80, 81, 82, 84, 85, 86, 97, 98, and 99, as applicable.

We published a notice of proposed priorities, requirements, definitions, and selection criteria (NPP) for this competition in the Federal Register on April 8, 2009 (74 FR 15949-15954). That notice contained background information and our reasons for proposing the particular priorities, requirements, definitions, and selection criteria. In addition to some minor editorial changes, there are several substantive differences between the NPP and this notice of final priorities, requirements, definitions, and selection criteria (NFP). These changes are explained in the Analysis of Comments and Changes section elsewhere in this notice.

Public Comment: In response to our invitation in the NPP, 21 parties submitted comments on the proposed priorities. We did not receive any comments on the proposed requirements, definitions, or selection criteria.

Analysis of Comments and Changes: An analysis of the comments and of any changes in the NFP since publication of the NPP follows.

We group comments according to the priorities. Generally, we do not address technical and other minor changes.

Priority 1—Supplemental Literacy Intervention for Struggling Readers in the Middle Grades

Comment: Several commenters suggested that we require projects to implement a schoolwide adolescent literacy initiative in addition to offering struggling readers an intensive, supplemental literacy intervention. Through a schoolwide literacy intervention, teachers in all academic disciplines would teach literacy skills within the curriculum of their content area and all students would receive instruction in how to improve their literacy skills.

Discussion: We agree that all secondary school students, including struggling readers, could benefit from a school-wide literacy initiative and that such initiatives are important in ensuring that all students graduate from high school with the literacy skills they will need to succeed in postsecondary education and careers. However, because a lesser amount of funds is available for new grants in FY 2009 as compared to previous years and what will be available in FY 2010, we have limited the focus of the priority to intensive, supplemental literacy interventions for struggling readers. In future competitions, the Department hopes to support projects that implement both schoolwide literacy initiatives for all students and intensive, supplemental literacy interventions for struggling readers.

Changes: None.

Comment: One commenter requested that we revise Priority 1 to require that the intensive, supplemental literacy intervention be aligned with the regular literacy instruction for all students in both content and pedagogy.

Discussion: We agree that the intensive, supplemental intervention should complement and be consistent with the regular literacy instruction that all students in the school receive. We expect, however, that this will be a key consideration for each applicant as it reviews and selects the intervention that it will propose to implement in its project. For this reason, we do not believe it is necessary to revise the priority to make this a requirement.

Changes: None.

Comment: Several commenters expressed the view that some developed interventions, such as those that may be purchased “off the shelf,” are not created to identify and build on individual students' strengths or address their specific needs. In order to maximize the effectiveness of each intervention, they recommended that the priority be revised to require the use of highly skilled reading specialists who can vary instructional decisions according to individual student needs.

Discussion: We agree that, to be most effective, interventions should have the capacity to identify and build on individual students' strengths and address their individual needs because the cause of an adolescent's difficulties in reading may differ significantly from student to student. A number of intensive, supplemental interventions for struggling readers do include the use of highly skilled reading specialists for these and other reasons, while other interventions address these issues through the use of other trained personnel or through other means. Since one of the selection criteria that peer reviewers will use to evaluate applications requires each applicant to provide research and other empirical evidence that demonstrate that the supplemental literacy intervention it proposes to implement is likely to be effective in improving the reading skills of struggling readers, we do not believe it is necessary to mandate the use of highly skilled reading specialists or establish other mandates with regard to the personnel who will be involved in delivering the intervention.

In addition, although one of our requirements is that applicants implement a fully developed intervention, we are not requiring that the intervention be one that can be bought “off the shelf.” We support the implementation of locally or regionally developed adolescent literacy interventions as well as commercially published adolescent literacy interventions.

Consistent with the purposes of this program, however, we do not support an intervention that is in the research stage and has not yet been fully developed, and we do not support interventions that have already been evaluated through large-scale experimental evaluations unless the proposed evaluation of such an intervention would substantially increase knowledge about the effectiveness of the intervention among a population different than those studied in previous experimental evaluations.

Changes: None.

Comment: One commenter recommended that we revise the priority to require that projects give priority to serving English language learners and language minority learners.

Discussion: The struggling readers who will be served by the supplemental literacy intervention will be identified through the use of a nationally normed, reliable, and valid screening reading assessment. We expect that English language learners will comprise a significant proportion of the students who will be served by Striving Readers projects because these students are overrepresented among struggling readers. The 2007 National Assessment of Educational Progress reading assessment found that 71 percent of eighth-grade English language learners enrolled in public schools scored below the Basic achievement level (National Center for Education Statistics, 2007). Accordingly, we do not believe it is necessary to add this type of requirement to the priority.

Changes: None.

Comment: Several commenters requested we clarify in the priority the meaning of the word “supplemental” in the term “supplemental literacy intervention.”

Discussion: We use the word “supplemental” to describe how the literacy intervention will fit into a student's daily school schedule. Struggling students will enroll in a supplemental intervention as an add-on or appendix to their regular course schedule of mathematics, science, social studies, and English. A supplemental literacy intervention would most likely appear as an elective in the student's schedule.

We also recognize that, in some Response to Intervention (RTI) models, the term “supplemental” may be used to describe particular types of interventions that are implemented at different tiers of the model. “Supplemental,” for example, may be the adjective used to describe interventions that are implemented in the third tier of an RTI model. However, our use of the term “supplemental” is not intended to refer to any particular tier or class of interventions in an RTI model. We use it only to indicate that the intervention must be delivered as a supplement to the regular academic instruction that students would ordinarily receive.

Changes: None.

Comment: Several commenters recommended that the priority be amended to include high school students, as well as students in the middle grades, arguing that the need for intensive, supplemental literacy interventions is as great in grades 9 through 12 as in grades 6 through 8. The commenters also noted that State needs for improving instruction in the middle grades and at the high school level vary and that the priority should give applicants the option of using Striving Readers funds in whatever secondary school grades the needs are the greatest.

Discussion: We agree that applicants should be given the option of using Striving Readers funds at whatever secondary grade level would most benefit the State's students.

Changes: Priority 1 has been changed to include students in grades 6 through 12. To reflect this change in the range of students, we have made conforming changes to paragraph (i) of Priority 2; paragraph (b) of the requirement regarding eligible schools; and paragraphs (b) and (c) of the definition of eligible school.

Priority 2—Rigorous and Independent Evaluation

Comment: One commenter encouraged us to set a higher minimum threshold for the number of schools included in each project. We had proposed to require projects to include a minimum of five schools in order to meet evaluation needs. The commenter suggested that setting a higher minimum would help define these literacy projects as State initiatives and would add credibility to the evaluation results.

Discussion: We encourage applicants to serve as many schools as possible; however, we do not believe that a higher minimum number of schools is needed.

Changes: None.

Comment: Two commenters requested that we reduce the number of struggling readers (75) per school that we require as the minimum number of students needed to support a rigorous, experimental evaluation.

Discussion: We proposed the requirement of a minimum of 75 struggling readers per school per year to ensure that the process of student-level random assignment yields treatment and control group samples that are comparable. Student-level random assignment in schools with fewer than 75 eligible struggling readers is more likely to result in treatment and control groups that are not comparable. However, we have revised Priority 1 to give applicants the option of including students in grades 9 through 12, as well as in grades 6 through 8. Because high schools typically have significantly larger enrollments than middle or junior high schools, this change may enable more applicants to identify 5 or more schools that have 75 or more struggling readers.

Changes: None.

Comment: One commenter noted that screening students for placement in supplemental interventions through the administration of a nationally normed assessment would require careful planning and coordination by the evaluator and school administrators. The commenter expressed the view that the timing of the screening would most likely require that screening tests be administered in the school year prior to the year of full program implementation. The commenter asked about the timing of grant awards.

Discussion: We will make awards by September 30, 2009, and we expect the supplementary literacy intervention to be fully implemented in all schools included in a project by the start of school year 2010-11. The time period that precedes full program implementation will be used to prepare for evaluation and implementation. The Department has set aside funds for technical assistance to evaluators. Project directors and evaluators will cooperate with technical assistance providers by completing a series of plans for screening students for eligibility, randomizing students or schools, collecting data, providing professional development, and planning for other crucial processes identified by the technical assistance provider.

Changes: None.

Comment: Two commenters proposed that we require evaluations to include the direct collection of implementation data, data on the level of student participation, and an assessment of the quality of professional development. In addition, one of the commenters noted that evaluations need to employ a wider set of statistical tools such as sampling, staggered starting time, and the use of more effective measures and that evaluations need to provide for the evaluation of fidelity of instruction for the control group. The commenter also suggested that a local literacy specialist be involved in collecting data for the evaluation.

Discussion: The Institute of Education Sciences will review all of the evaluation plans to help ensure that the impact reports produced by evaluators meet rigorous standards for scientific evidence and will consider these comments in the course of that review.

Changes: None.

Comment: A commenter asked about the availability of funds to cover administrative costs incurred by the State educational agency in implementing and evaluating the supplemental literacy interventions.

Discussion: Grant funds are available to cover reasonable and necessary expenses incurred in carrying out the project, which may include State administrative costs.

Changes: None.

Comment: None.

Discussion: We specified in the NPP that to be considered eligible an applicant must include in its evaluation design a sample size that includes no fewer than 750 struggling readers enrolled in no fewer than 5 schools in each year of the evaluation. After the publication of the NPP, we realized that applicants would benefit from a clarification of the required sample size.

Changes: Although, we have not made a substantive change in the definition of the sample size as it appeared in paragraph (h) of Priority 2, we have added two sentences that expand on the definition by including examples of an adequate sample size.

Requirements and Definitions—Eligible Schools

Comment: None.

Discussion: We specified in the NPP that to be considered an eligible school under this program, an applicant must include in its application, among other things, assessment data for the 2007-08 and 2008-09 school years that demonstrate that a minimum of 75 students in the grades to be served by the supplemental literacy intervention were struggling readers. After the NPP was published, we realized that the 2008-09 State assessment data may not be available in time for applicants to include these data in their applications. We have modified this requirement to provide that an applicant must include the 2007-08 and 2008-09 data or data for the most recent two years for which data are available. We have made a similar change in the definition of eligible schools.

Changes: The requirement for eligible schools and the definition of eligible schools have been changed to provide that an applicant must include in its application the 2007-08 and 2008-09 assessment data or data for the two most recent years for which data are available.

Requirements and Selection Criteria—Supplemental Literacy Intervention Logic Model and Assessment Requirements; Project Design

Comment: None.

Discussion: We proposed in the NPP that to be considered for an award under this competition, an applicant must include in its application evidence regarding the screening, diagnostic, and outcome reading assessments of student literacy skills that the applicant would use to inform the identification of struggling readers and the content of their instruction. We also proposed in the Project Design criterion that the Secretary would evaluate applications in part on the extent to which the proposed project using reading assessments for screening struggling readers and for diagnosing individual student needs. Although we identified the purposes of two of the three kinds of assessments (screening and diagnostic) in both of these sections, we did not specify the purpose of the outcome reading assessment. To correct this omission, we have modified this requirement and the Project Design selection criterion to indicate that the purpose of the outcome reading assessment is to evaluate the effectiveness of the supplemental literacy intervention.

Changes: We have modified paragraph (c) of the Supplemental Literacy Intervention Logic Model and Assessment Requirements and paragraph (4) of the Project Design selection criterion to indicate that the purpose of the outcome reading assessment is to evaluate the effectiveness of the supplemental literacy intervention.

Final Priorities

Priority 1—Supplemental Literacy Intervention for Struggling Readers in Middle and High School Grades

To be eligible for consideration under this priority, an applicant must propose to implement a supplemental literacy intervention during the second, third, and fourth years of the project period that—

(a) Will be provided to struggling readers (as defined elsewhere in this notice) in any of grades 6 through 12 in no fewer than 5 eligible schools;

(b) Supplements the regular English language arts instruction students receive;

(c) Provides instruction exclusively or primarily during the regular school day, but that may be augmented by after-school instruction;

(d) Is at least one full school year in duration;

(e) Includes the use of a nationally normed, reliable, and valid screening reading assessment (as defined elsewhere in this notice) to identify struggling readers;

(f) Includes the use of a nationally normed, reliable, and valid diagnostic reading assessment (as defined elsewhere in this notice) to pinpoint students' instructional needs;

(g) Uses a research-based literacy model that is flexible enough to meet the varied needs of struggling readers, is intense enough to accelerate the development of literacy skills, and includes, at a minimum, the following practices:

(1) Explicit vocabulary instruction.

(2) Direct and explicit comprehension strategy instruction.

(3) Opportunities for extended discussion of text meaning and interpretation.

(4) Instruction in reading foundational skills, such as decoding and fluency (for students who need to be taught these skills).

(5) Course content intended to improve student motivation and engagement in literacy learning.

(6) Instruction in writing; and

(h) Has been implemented in at least one school in the United States during the preceding five years.

Priority 2—Rigorous and Independent Evaluation

To be eligible for consideration under this priority, an applicant must propose to support a rigorous experimental evaluation of the effectiveness of the supplemental literacy intervention it implements under Priority 1 (Supplemental Literacy Intervention for Struggling Readers in Middle and High School Grades) during the second, third, and fourth years of the project that will—

(a) Be carried out by an independent evaluator whose role in the project is limited solely to conducting the evaluation;

(b) Use a random lottery to assign eligible struggling readers in each school in the project either to the supplemental literacy intervention or to other activities in which they would otherwise participate, such as a study hall, electives, or another activity that does not involve supplemental literacy instruction;

(c) Include rigorous and appropriate procedures to monitor the integrity of the random assignment of students, minimize crossover and contamination between the treatment and control groups, and monitor, document, and, where possible, minimize student attrition from the sample;

(d) Measure outcomes of the supplemental literacy intervention using, at a minimum:

(1) The reading/language arts assessment used by the State to determine whether a school has made adequate yearly progress under part A of title I of the ESEA.

(2) A nationally normed, reliable, and valid outcome reading assessment (as defined elsewhere in this notice) that is closely aligned with the literacy skills targeted by the supplemental literacy intervention;

(e) Use rigorous statistical models to analyze the impact of the supplemental literacy intervention on student achievement, including the use of students' prior-year test scores as a covariate in the model to improve statistical precision and also including appropriate statistical techniques for taking into account the clustering of students within schools;

(f) Include an analysis of the fidelity of implementation of the critical features of the supplemental literacy intervention based on data collected by the evaluator;

(g) Include measures designed to ensure that the evaluator obtains high response rates to all data collections;

(h) Include no fewer than 750 struggling readers per year in all of the schools and grades served by the supplemental literacy intervention. To meet the eligibility requirements, an applicant with 5 schools would need an average of 150 struggling readers in all grades served by the intervention per school. An applicant with 10 schools would also meet the eligibility requirements if each school had 75 struggling readers in all grades served by the intervention; and

(i) Be designed to detect not less than a 0.10 standard deviation impact of the supplemental literacy intervention on student achievement, which represents approximately 3 to 5 months' growth in reading achievement on standardized assessments for the typical student in grades 6 through 12.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Assistant Secretary for Elementary and Secondary Education establishes the following requirements for this program. We may apply these requirements in any year in which this program is in effect.

Eligible Applicants: To be considered for an award under this competition, an applicant must be a State educational agency (SEA) that applies on behalf of itself and one or more LEAs that have governing authority over the eligible schools (as defined elsewhere in this notice) that the applicant proposes to include in the project.

Eligible schools: To be considered for an award under this competition, an eligible applicant must include in its application the following with respect to each school it proposes to include in the project:

(a) The school's name, location, and enrollment disaggregated by grade level for the 2008-09 school year.

(b) State or other assessment data that demonstrate that, during each of the 2007-08 and 2008-09 school years (or the most recent two years for which data are available), a minimum of 75 students in the grades to be served by the supplemental literacy intervention were struggling readers (as defined elsewhere in this notice).

(c) Evidence that the school is eligible to receive funds under part A of title I of the ESEA, pursuant to section 1113 of the ESEA.

(d) A letter from the superintendent of the LEA that has governing authority over the school and the principal of the school in which they—

(1) Agree to implement the proposed supplemental literacy intervention during the 2010-11, 2011-12, and 2012-13 school years, adhering strictly to the design of the intervention;

(2) Agree to allow eligible struggling readers to be randomly assigned (by lottery) to either the supplemental literacy intervention curriculum or to other activities in which they would otherwise participate, such as a study hall, electives, or other activity that does not involve supplemental reading instruction; and

(3) Agree to participate in the evaluation, including in the evaluator's collection of data on student outcomes and program implementation.

Supplemental Literacy Intervention Logic Model and Assessment Requirements: To be considered for an award under this competition, an applicant must include in its application the following evidence with respect to the supplemental literacy intervention it proposes to implement and evaluate:

(a) Evidence that the supplemental literacy intervention has been implemented in at least one school in the United States during the preceding five years.

(b) A one-page logic model that shows a clear, logical pathway leading from the project inputs and activities, through classroom instruction, to the expected impacts on students.

(c) The nationally normed, reliable, and valid screening, diagnostic, and outcome reading assessments (as these reading assessments are defined elsewhere in this notice) of student literacy skills that the applicant would use to inform the identification of struggling readers and the content of their instruction, and to evaluate the effectiveness of the supplemental literacy intervention.

Definitions

The Assistant Secretary for Elementary and Secondary Education establishes several definitions that will help clarify the population of students eligible for services under this competition and the tools to be used to identify those eligible students. We may apply one or more of these definitions in any year in which this program is in effect.

Diagnostic reading assessment means an assessment that is—

(a) Valid, reliable, and based on scientifically based reading research; and

(b) Used for the purpose of—

(1) Identifying a child's specific areas of strength and weakness;

(2) Determining any difficulties that a child may have in learning to read and the potential cause of such difficulties; and

(3) Helping to determine possible reading intervention strategies and related special needs.

Eligible school means a school that—

(a) Is eligible to receive funds under part A of title I of the ESEA, pursuant to section 1113 of the ESEA;

(b) Serves students in any of grades 6 through 12; and

(c) Enrolled not fewer than 75 students in the grades that will be served by the supplemental literacy intervention during the 2007-08 and 2008-09 school years (or the two most recent years for which data are available) whose reading skills were two or more years below grade level.

Outcome reading assessment means an assessment that is—

(a) Valid, reliable, and nationally normed;

(b) Closely aligned with the literacy skills targeted by the supplemental literacy intervention; and

(c) Used for the purpose of—

(1) Measuring student reading achievement; and

(2) Evaluating the effectiveness of the supplemental literacy intervention.

Screening reading assessment means an assessment that is—

(a) Valid, reliable, and based on scientifically based reading research; and

(b) A brief procedure designed as a first step in identifying children who may be at high risk for delayed development or academic failure and in need of further diagnosis of their need for special services or additional literacy instruction.

Struggling readers means readers who—

(a) Have only partial mastery of the prerequisite knowledge and skills that are fundamental for reading at grade level; and

(b) Are reading two or more grades below grade level when measured on an initial screening reading assessment.

Selection Criteria

The Assistant Secretary for Elementary and Secondary Education establishes the following selection criteria for evaluating an application under this program. We may apply one or more of these criteria in any year in which this program is in effect. In the notice inviting applications or the application package or both we will announce the maximum possible points assigned to each criterion.

(a) Significance.

(1) The potential contribution of the project to the development and advancement of theory, research, and practices in the field of adolescent literacy, including—

(i) In the case of a supplemental literacy intervention that has not been evaluated through a large-scale experimental evaluation, the extent to which other empirical evidence (such as smaller-scale experimental or quasi-experimental studies of the effects of the intervention on student achievement) demonstrates that the intervention is likely to be effective in improving the reading skills of struggling readers; or

(ii) In the case of a supplemental literacy intervention that has been evaluated by one or more large-scale experimental evaluations, the extent to which those evaluations provide evidence that demonstrates that the intervention is likely to be effective in improving the reading skills of struggling readers and that the proposed evaluation would increase substantially knowledge in the field of adolescent literacy, such as by studying the effectiveness of the intervention among a different population than studied in previous experimental evaluations or by using an improved evaluation design (such as one that has a marked increase in statistical power).

(2) The extent to which the proposed supplemental literacy intervention can be replicated in a variety of settings without significant modifications.

(b) Project Design.

(1) The extent to which the supplemental literacy intervention uses a research-based literacy model that is flexible enough to meet the varied needs of struggling readers, is intense enough to accelerate the development of literacy skills, and includes, at a minimum, the following practices:

(i) Explicit vocabulary instruction;

(ii) Direct and explicit comprehension strategy instruction;

(iii) Opportunities for extended discussion of text meaning and interpretation;

(iv) Instruction in reading foundational skills, such as decoding and fluency (for students who need to be taught these skills);

(v) Course content designed to improve student motivation and engagement in literacy learning; and

(vi) Instruction in writing.

(2) The extent to which the professional development model proposed for the project has sufficient intensity (in terms of the number of hours or days).

(3) The extent to which the provider of the professional development identified in the application has the appropriate experience and knowledge to provide high-quality professional development.

(4) The extent to which the proposed project uses nationally normed, valid, and reliable screening reading assessments for screening struggling readers, diagnostic reading assessments for identifying individual student needs, and outcome assessments for evaluating the effectiveness of the supplemental literacy intervention.

(c) Project Evaluation.

(1) The extent to which the evaluation plan includes data from the reading/English language arts assessment used by the State to measure adequate yearly progress under part A of title I of the ESEA and from a second, evaluator-administered, nationally normed, reliable, and valid measure of student reading achievement that is closely aligned with the goals of the intervention.

(2) The extent to which the evaluation plan describes an objective and appropriate method for the independent evaluator to conduct random assignment of students to treatment and control conditions; rigorous and appropriate methods for monitoring the integrity of random assignment and for minimizing crossover and contamination between the treatment and control groups; and rigorous and appropriate methods for monitoring, documenting, and, where possible, minimizing, student attrition from the sample.

(3) The extent to which the evaluation plan includes a clear, well-documented, and rigorous method for measuring the fidelity of implementation of the critical features of the intervention.

(4) The extent to which the evaluation plan describes rigorous statistical procedures for the analysis of the data that will be collected, including:

(i) A clear discussion of the relationship between hypotheses, measures, and independent and dependent variables.

(ii) Appropriate statistical techniques for taking into account the clustering of students within schools.

(iii) The use of data on students' achievement in prior years as a covariate to improve statistical precision.

(iv) In the case of qualitative data analyses, the use of appropriate and rigorous methods to index, summarize, and interpret data.

(5) The extent to which the independent evaluator identified in the application has experience in conducting scientifically based reading research and in designing and conducting experimental evaluations.

(6) The extent to which the proposed budget allocates sufficient funds to carry out a high-quality evaluation of the proposed project.

This notice does not preclude us from proposing additional priorities, requirements, definitions, or selection criteria, subject to meeting applicable rulemaking requirements.

Note: This notice does not solicit applications. In any year in which we choose to use these priorities, requirements, definitions, and selection criteria, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priorities, requirements, definitions, and selection criteria justify the costs.

We have determined, also, that this final regulatory action does not unduly interfere with State, local, and Tribal governments in the exercise of their governmental functions.

We summarized the costs and benefits of this regulatory action in the notice of proposed priorities, requirements, definitions, and selection criteria.

Intergovernmental Review: This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Joseph C. Conaty, Director, Academic Improvement and Teacher Quality Programs for the Office of Elementary and Secondary Education, to perform the functions of the Assistant Secretary for Elementary and Secondary Education.

Dated: June 5, 2009.
Joseph P. Conaty,
Director, Academic Improvement and Teacher Quality Programs.

[FR Doc. E9-13754 Filed 6-10-09; 8:45 am]

BILLING CODE 4000-01-P